DEPARTMENT OF COMMERCE

National Oceanic and Atmospheric Administration

[I.D.020101A]

Marine Mammals; File No. 782-1613

AGENCY: National Marine Fisheries Service (NMFS), National Oceanic and Atmospheric Administration (NOAA), Commerce.

ACTION: Receipt of application.

SUMMARY: Notice is hereby given that the National Marine Mammal Laboratory, National Marine Fisheries Service, has applied in due form for a permit to take California sea lions (Zalophus californianus), harbor seals (Phoca vitulina), and northern elephant seals (Mirounga angustirostris) and incidentally take northern fur seals (Callorhinus ursinus) for purposes of scientific research.

DATES: Written or telefaxed comments must be received on or before March 16, 2001.

ADDRESSES: The application and related documents are available for review upon written request or by appointment in the following office(s):

Permits and Documentation Division, Office of Protected Resources, NMFS, 1315 East-West Highway, Room 13130, Silver Spring, MD 20910 (301/713-2289);

Southwest Region, NMFS, 501 West Ocean Blvd., Long Beach, CA 90802-4213 (562/980-4001); and

Northwest Region, NMFS, 7600 Sand Point Way NE, Seattle, WA 98115 (201/526-6150).

FOR FURTHER INFORMATION CONTACT: Tammy Adams or Ruth Johnson, 301/713-2289.

SUPPLEMENTARY INFORMATION: The subject permit is requested under the authority of the Marine Mammal Protection Act of 1972, as amended (MMPA; 16 U.S.C. 1361 et seq.) and the Regulations Governing the Taking and Importing of Marine Mammals (50 CFR part 216).

The applicant is requesting permission to conduct three research projects on three species of pinnipeds breeding in San Miguel Island, California: (1) population assessment of California sea lions (CSL); (2) ecology of infectious diseases and cancers in CSL; and (3) foraging ecology of harbor seals and northern elephants. The objectives are to: (1) monitor trends in population parameters and health of CSL; (2) identify the intrinsic and extrinsic factors that affect the susceptibility to infectious diseases and the development of cancer in CSL; and (3) describe the environmental factors that influence the foraging ecology of harbor seals and northern elephant seals. Population assessment of CSL is a continuation of a long-term program designed to meet the needs of the NMFS mandate to monitor population health of pinnipeds. Northern fur seals may be incidentally harassed during the conduct of these activities.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: February 8, 2001.
Trevor R. Spradlin,
Acting Chief, Permits and Documentation Division, Office of Protected Resources, National Marine Fisheries Service.

[FR Doc. 01-3770 Filed 2-13-01; 8:45 am]

BILLING CODE 3510-22-S